ENVIRONMENTAL PROTECTION AGENCY

[FRL-9205-5]

Science Advisory Board Staff Office Request for Nominations of Experts for the Review of Great Lakes Restoration Initiative Action Plan

AGENCY: Environmental Protection Agency (EPA).

ACTION: Notice.

SUMMARY: The EPA Science Advisory Board (SAB) Staff Office is requesting public nominations for technical experts to form an SAB panel to review the interagency Great Lakes Restoration Initiative (GLRI) Action Plan which describes restoration priorities, goals, objectives, measurable ecological targets, and specific actions.

DATES: Nominations should be submitted by October 15, 2010 per instructions below.

FOR FURTHER INFORMATION CONTACT: Any member of the public wishing further information regarding this Notice and Request for Nominations may contact Ms. Iris Goodman, Designated Federal Officer (DFO), SAB Staff Office, by telephone/voice mail at (202) 564-2164, by fax at (202) 565-2098, or via e-mail at goodman.iris@epa.gov. General information concerning the EPA Science Advisory Board can be found at the EPA SAB Web site at http//www.epa.gov/sab.

SUPPLEMENTARY INFORMATION: Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies.

EPA is leading an interagency Great Lakes Restoration Initiative (GLRI) to protect and restore the chemical, biological, and physical integrity of the Great Lakes. The GLRI is designed to target the most significant environmental problems in the region, as documented in extensive scientific studies and by stakeholder review. To guide the efforts of the GLRI, EPA and its Federal partners, through the Great Lakes Interagency Task Force, developed a comprehensive multi-year Action Plan. The GLRI Action Plan identifies outcome-oriented performance goals, objectives, measurable ecological targets, and specific actions for five major focus areas: toxic substances and areas of concern; invasive species; near-shore health and nonpoint source pollution; habitat and wildlife protection and restoration; and accountability, education, monitoring, evaluation, communication, and partnerships.

The EPA Great Lakes National Program Manager has requested the SAB to review the GLRI Action Plan to assess the appropriateness of its measures and actions to achieve its stated priorities and goals. The SAB Staff Office will form an expert panel to review the Plan and its targeted priorities.

Request for Nominations: The SAB Staff Office is seeking nominations of nationally and internationally recognized scientists and engineers with demonstrated expertise and research or management experience in one or more of the following areas: Limnology, landscape ecology, restoration ecology, ecotoxicology, population biology, aquatic biology, fisheries and wildlife management, invasive species, water chemistry, environmental engineering, environmental monitoring, and environmental assessment. We are particularly interested in scientists and engineers with direct experience in the design, management, and implementation of environmental protection and restoration programs that have included development of metrics and environmental indicators used to monitor, evaluate, and communicate restoration progress.

Availability of the review materials: The GLRI Action Plan is available on the Great Lakes National Program Office Web site http://greatlakesrestoration.us/?page_id=24 and at the SAB Web site http://yosemite.epa.gov/sab/sabpeople.nsf/WebCommittees/BOARD. For questions concerning the GLRI, please contact Paul Horvatin, Chief, Monitoring Indicators and Reporting Branch, U.S. EPA Great Lakes National Program Office, 77 West Jackson Boulevard (G-17J), Chicago, Illinois 60604, phone (312) 353-3612; fax (312) 385-5456, or at horvatin.paul@epa.gov.

Process and Deadline for Submitting Nominations: Any interested person or organization may nominate qualified individuals in the areas of expertise described above for possible service on this expert Panel. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested below.

EPA's SAB Staff Office requests contact information about the person making the nomination; contact information about the nominee; the disciplinary and specific areas of expertise of the nominee; the nominee's curriculum vita; sources of recent grant and/or contract support; and a biographical sketch of the nominee indicating current position, educational background, research activities, and recent service on other national advisory committees or national professional organizations.

Persons having questions about the nomination procedures, or who are unable to submit nominations through the SAB Web site, should contact Ms. Iris Goodman, DFO, as indicated above in this notice. Nominations should be submitted in time to arrive no later than October 15, 2010. EPA values and welcomes diversity. In an effort to obtain nominations of diverse candidates, EPA encourages nominations of women and men of all racial and ethnic groups.

The EPA SAB Staff Office will acknowledge receipt of nominations. The names and bio-sketches of qualified nominees identified by respondents to this Federal Register notice, and additional experts identified by the SAB Staff, will be posted in a List of Candidates on the SAB Web site at http://www.epa.gov/sab. Public comments on this List of Candidates will be accepted for 21 calendar days. The public will be requested to provide relevant information or other documentation on nominees that the SAB Staff Office should consider in evaluating candidates.

For the EPA SAB Staff Office, a review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: September 17, 2010.
Vanessa T. Vu,
Director, EPA Science Advisory Board Staff Office.

[FR Doc. 2010-23982 Filed 9-23-10; 8:45 am]

BILLING CODE 6560-50-P